DEPARTMENT OF JUSTICE

Foreign Claims Settlement Commission

Adjudication of Claims of U.S. Nationals Against the Government of Cuba

AGENCY: Foreign Claims Settlement Commission of the United States.

ACTION: Notice.

SUMMARY: This notice announces the commencement by the Foreign Claims Settlement Commission of a program for adjudication of certain property claims of United States nationals against the Government of Cuba.

DATES: The Commission will begin its adjudication of the claims which are the subject of this notice as soon as practicable following the date hereof. The deadline for filing of these claims will be February 13, 2006. The deadline for completion of this claims adjudication program will be August 11, 2006.

FOR FURTHER INFORMATION CONTACT: David E. Bradley, Chief Counsel, Foreign Claims Settlement Commission of the United States, 600 E Street, NW., Room 6002, Washington, DC 20579, Tel. (202) 616-6975, FAX (202) 616-6993.

Notice of Commencement of Claims Adjudication Program, and of Program Completion Date

Pursuant to the authority conferred upon the Secretary of State and the Commission under subsection 4(a)(1)(C) of Title I of the International Claims Settlement Act of 1949 (Pub. L. 455, 81st Cong., approved March 10, 1950, as amended by Public Law 105-277, approved October 21, 1998 (22 U.S.C. 1623(a)(1)(C)), the Foreign Claims Settlement Commission hereby gives notice of the commencement of a program for adjudication of a category of claims of United States nationals against the Government of Cuba. These claims, which have been referred to the Commission by the Secretary of State by letter dated July 15, 2005, are defined as property claims that:

a. Would have been eligible under the Cuban Claims Program (22 U.S.C. 1643 et seq.) but for the fact that they did not arise by the time of the filing deadline of May 1, 1967, provided that they were not otherwise adjudicated by the Commission prior to the completion of the Cuban Claims Program;

b. arise on or before the date of publication of this Federal Register notice;

c. are not claims for disability or death; and

d. are filed with the Commission within six months of the date of this Federal Register notice, i.e., on or before February 13, 2006.

In conformity with the terms of the referral by the Secretary of State, the Commission will determine the claims in accordance with the provisions of the Cuban Claims Program to the extent that such provisions are not inconsistent with 22 U.S.C. 1623, and where such inconsistency exists, in accordance with the provisions of 22 U.S.C. 1623. Also in conformity with the terms of the referral, the claims will be determined by the Commission within twelve months of the date of this Federal Register notice, i.e., on or before August 11, 2006. The Commission will then certify to the Secretary of State those claims that it finds to be valid.

The Commission will administer this claims adjudication program in accordance with its regulations, which are published in Chapter V of Title 45, Code of Federal Regulations (45 CFR part 500 et seq.). In particular, attention is directed to subsection 509.6(d) of these regulations, which provides that the claimant shall bear the burden of proof on all elements of his or her claim. Copies of the regulations will be available from the Commission upon request, and are also available electronically at http://www.gpoaccess.gov/cfr/index.html.

The collection of information associated with this claims program is exempt from the requirements of 44 U.S.C. 3507 under the exception set forth in 44 U.S.C. 3506(c)(5).

Mauricio J. Tamargo,
Chairman.

[FR Doc. 05-15910 Filed 8-10-05; 8:45 am]

BILLING CODE 4410-01-U